FEDERAL MARITIME COMMISSION

Notice of Agreements Filed

The Commission hereby gives notice of the filing of the following agreements under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011679-006.

Title: ASF/SERC Agreement.

Parties: American President Lines, Ltd.; ANL Singapore Pte Ltd.; APL Co. Pte Ltd.; China Shipping Container Lines, Co. Ltd.; COSCO Container Lines Co., Ltd.; Evergreen Marine Corp. (Taiwan) Ltd.; Hanjin Shipping Co., Ltd.; Hyundai Merchant Marine Co., Ltd.; Kawasaki Kisen Kaisha, Ltd.; Mitsui O.S.K. Lines Ltd.; Nippon Yusen Kaisha; Orient Overseas Container Line Ltd.; Sinotrans Container Lines Co., Ltd.; Wan Hai Lines Ltd.; and Yang Ming Marine Transport Corp.

Filing Party: Wayne R. Rohde, Esq.; Sher & Blackwell; 1850 M Street, NW.; Suite 900; Washington, DC 20036.

Synopsis: The amendment adds ANL Singapore Pte Ltd. as a party to the agreement.

Agreement No.: 200563-011.

Title: Oakland/Trans Pacific Marine Terminal Agreement.

Parties: Port of Oakland and Trans Pacific Container Corporation.

Filing Party: Thomas D. Clark, Esq.; Assistant Port Attorney; Port of Oakland; 530 Water Street; Oakland, CA 94607.

Synopsis: The proposed amendment revises the assigned premises covered by the agreement.

Agreement No.: 201113-004.

Title: Oakland/SSA LLC Preferential Assignment Agreement.

Parties: Port of Oakland and SSA Terminals, LLC.

Filing Party: Thomas D. Clark, Esq.; Assistant Port Attorney; Port of Oakland; 530 Water Street; Oakland, CA 94607.

Synopsis: The amendment expands the assigned premises, provides for improvements, and adjusts the compensation payable under the agreement.

Agreement No.: 201158.

Title: Docking and Lease Agreement By and Between City of Portland, Maine, and Scotia Prince Cruises Limited.

Parties: City of Portland, Maine, and Scotia Prince Cruises Limited.

Filing Party: Judith H. Harris; Manager, Maritime Policy; Department of Transportation; City of Portland; 40 Commercial Street, Suite 100; Portland, Maine 04101.

Synopsis: This terminal lease agreement, in effect since October 3, 1986, outlines the terms and conditions under which Scotia Prince Cruises Limited may use the port facilities of the City of Portland, Maine. It also provides for an exclusive arrangement between the parties, whereby Scotia Prince agrees not to operate or participate in other passenger or passenger vehicle ferry services between other ports in New England and Nova Scotia and the City of Portland agrees not to grant to any other party the right to use the premises for any passenger or passenger vehicle ferry services without the prior written consent of Scotia Prince.

By Order of the Federal Maritime Commission.
Dated: July 16, 2004.
Bryant L. VanBrakle,
Secretary.

[FR Doc. 04-16600 Filed 7-20-04; 8:45 am]

BILLING CODE 6730-01-P